DEPARTMENT OF COMMERCE

National Oceanic and Atmospheric Administration

[I.D. 021507C]

Fisheries Off West Coast States and in the Western Pacific; Pacific Coast Groundfish Fishery; Application for an Exempted Fishing Permit

AGENCY: National Marine Fisheries Service (NMFS), National Oceanic and Atmospheric Administration (NOAA), Commerce.

ACTION: Notice; receipt of an exempted fishing permit application (EFP); intent to issue the EFP; request for comments.

SUMMARY: NMFS announces the receipt of an exempted fishing permit (EFP) application, and the intent to issue EFPs for vessels participating in an observation program to monitor the incidental take of salmon and groundfish in the shore-based component of the Pacific whiting fishery. The EFPs are necessary to allow trawl vessels fishing for Pacific whiting to delay sorting their catch, and thus to retain prohibited species and groundfish in excess of cumulative trip limits until the point of offloading. These activities are otherwise prohibited by Federal regulations. The EFPs will be effective no earlier than April 1, 2007, and would expire no later than December 31, 2007, but could be terminated earlier under the terms and conditions of the EFPs and other applicable laws.

DATES: Comments must be received by March 9, 2007.

ADDRESSES: Send comments or request for copies of the EFP application to Gretchen Arentzen, Northwest Region, NMFS, 7600 Sand Point Way N.E., Bldg. 1, Seattle, WA 98115 0070 or email EFPwhiting2007.nwr@noaa.gov. Comments sent via email, including all attachments, must not exceed a 10 megabyte file size.

FOR FURTHER INFORMATION CONTACT: Gretchen Arentzen or Becky Renko at (206)526 6140.

SUPPLEMENTARY INFORMATION: This action is authorized by the Magnuson-Stevens Fishery Conservation and Management Act provisions at 50 CFR 600.745, which state that EFPs may be used to authorize fishing activities that would otherwise be prohibited. At the November 2006 Pacific Fishery Management Council (Council) meeting in Del Mar, California, NMFS received an application for these EFPs from the States of Washington, Oregon, and California. An opportunity for public testimony was provided during the Council meeting. The Council recommended that NMFS issue the EFPs, as requested by the States, and forwarded the EFP applications to NMFS.

Each year since 1992, EFPs have been issued to vessels in the Pacific whiting shoreside fishery to allow unsorted catch to be landed. Without an EFP, groundfish regulations at 50 CFR 660.306(a) require vessels to sort their catch at sea. The vessels fishing under the EFPs are required to deliver catch to designated processors. EFPs have been used to: track the incidental take of Chinook salmon as required in the Endangered Species Act (ESA) Section 7 Biological Opinion for Chinook salmon catch in the Pacific whiting fishery; and to track the catch of whiting and other groundfish species such that the fishing industry is not unnecessarily constrained and that the OYs, harvest guidelines, sector allocation and overfished species bycatch limits are not exceeded.

Over the past five years, the number of vessels issued these EFPs has been between 31 and 38 vessels. Issuance of the 2007 EFPs, to approximately 40 vessels, will allow samplers located at the shoreside processing facilities to collect information on the incidental catch of salmon and groundfish in unsorted whiting deliveries. Unlike the at-sea sectors of the Pacific whiting fishery, where catch is sorted and processed shortly after it has been taken, vessels in the shoreside fishery must hold primary season Pacific whiting on the vessel for several hours or days until it can be offloaded at a shoreside processor. Pacific whiting deteriorates rapidly, so it must be handled quickly and immediately chilled to maintain product quality. This is particularly true if the Pacific whiting is to be used to make surimi (a fish paste product). The quality or grade of surimi is highly dependent on the freshness of the Pacific whiting, which demands careful handling and immediate cooling or processing for the fishery to be economically feasible. Because rapid cooling can retard flesh deterioration, most vessels prefer to dump their unsorted catch directly below deck into the refrigerated salt water tanks. However, dumping the unsorted catch into the refrigerated salt water tanks precludes the immediate sorting or sampling of the catch. As a primary season fishery, fishers prefer to quickly and efficiently handle the catch so they can return to port for offloading.

In 2004, 2005, and 2006, NMFS provided electronic monitoring systems to catcher vessels fishing under the whiting EFP as part of a pilot study to evaluate if these systems would be useful tools to verify retention and/or document discard at sea. Based on the results from the 2004, 2005, and 2006 pilot studies, NMFS has determined that an EFP is an effective tool for monitoring maximized retention in the whiting fishery.

In addition to providing information that will be used to monitor the attainment of the shore-based whiting allocation, information gathered through these EFPs is expected to be used in a future rulemaking. The Council recommended using EFPs only until a permanent monitoring program can be developed and implemented. For 2008, NMFS intends to implement, through federal regulation, a monitoring program for the shore-based Pacific whiting fleet. At its September 2006 meeting, the Pacific Council was provided with a joint agency report on whiting fishery monitoring and management, and subsequently provided guidance to NMFS on development of draft alternatives for the monitoring program. Based on information learned during the 2004, 2005 and 2006 EFPs, guidance from the Pacific Council, and informational meetings between Federal and state agencies and industry members, NMFS developed a draft set of monitoring program alternatives and accompanying draft regulations to be implemented in the 2008 fishery. These draft alternatives and regulations were presented to the Pacific Council at their November 2006 meeting. An opportunity for public testimony was provided during the Council meeting. NMFS will complete the EA and provide a final draft to the Council in April 2007, at which time the Council will take final action on the proposed alternatives. NMFS will then publish the proposed rule prior to the start date of the 2008 shore-based primary Pacific whiting season. Given this timeline, 2007 will serve as a transition year, in which the EFPs issued to participating vessels will have requirements as similar as possible to the proposed Federal regulations. In addition, NMFS intends to implement, through notice and comment rulemaking, temporary processor regulations for 2007. That action is intended to address catch accounting difficulties that occurred during the 2006 Pacific whiting shoreside fishery and to improve the agency's ability to monitor the attainment of allocations, bycatch limits, and prohibited species take. The proposed action defines requirements for recordkeeping, reporting, catch sorting, and weighing that apply to individuals who receive, buy, or accept Pacific whiting from a vessel using midwater trawl gear during the primary season for the shore-based sector. NMFS anticipates publishing shortly a proposed rule to implement this action in the Federal Register.

Authority: 16 U.S.C. 1801 et seq.

Dated: February 15, 2007.
James P. Burgess,
Acting Director, Office of Sustainable Fisheries, National Marine Fisheries Service.

[FR Doc. E7-2963 Filed 2-21-07; 8:45 am]

BILLING CODE 3510-22-S